Title 3—

The President

Proclamation 8860 of September 10, 2012

Patriot Day and National Day of Service and Remembrance, 2012

By the President of the United States of America

A Proclamation

On September 11, 2001, a bright autumn day was darkened by the worst attack on the American people in our history. Thousands of innocent men, women, and children perished when mighty towers collapsed in the heart of New York City and wreckage burned in Pennsylvania and at the Pentagon. They were family and friends, service members and first responders—and the tragedy of their loss left pain that will never fade and scars our country will never forget.

More than a decade later, the world we live in is forever changed. But as we mark the anniversary of September 11, we remember what remains the same: our character as a Nation, our faith in one another, and our legacy as a country strengthened by service and selflessness. In the spirit that moved rescue workers and firefighters to charge into darkness and danger that September morning, we see the same sense of moral responsibility that drove countless Americans to give of themselves in the months that followed. We offered our neighbors a hand and lined up to give blood. Many helped our Nation rebuild and recover long after the dust had settled, donating and volunteering and helping survivors who had borne so much. We were united, and the outpouring of generosity reminded us that, through challenges that have spanned from acts of terrorism to natural disasters, we go forward together as one people.

Today, as we remember the victims, their families, and the heroes who stood up during one of our country's darkest moments, I invite all Americans to reclaim that abiding spirit of compassion by serving their communities in the days and weeks ahead. From volunteering with a faith-based organization, to collecting food and clothing for those in need, to preparing care packages for our men and women in uniform, there are many ways to bring service into our everyday lives—and each of us can do something. To get involved and find a local service opportunity, visit www.Serve.gov, or www.Servir.gov for Spanish speakers.

Even the simplest act of kindness can be a way to honor those we have lost, and to help build stronger communities and a more resilient Nation. By joining together on this solemn anniversary, let us show that America's sense of common purpose need not be a fleeting moment, but a lasting virtue—not just on one day, but every day.

By a joint resolution approved December 18, 2001 (Public Law 107-89), the Congress has designated September 11 of each year as “Patriot Day,” and by Public Law 111-13, approved April 21, 2009, the Congress has requested the observance of September 11 as an annually recognized “National Day of Service and Remembrance.”

NOW, THEREFORE, I, BARACK OBAMA, President of the United States of America, do hereby proclaim September 11, 2012, as Patriot Day and National Day of Service and Remembrance. I call upon all departments, agencies, and instrumentalities of the United States to display the flag of the United States at half-staff on Patriot Day and National Day of Service and Remembrance in honor of the individuals who lost their lives on September 11, 2001. I invite the Governors of the United States and the Commonwealth of Puerto Rico and interested organizations and individuals to join in this observance. I call upon the people of the United States to participate in community service in honor of those our Nation lost, to observe this day with appropriate ceremonies and activities, including remembrance services, and to observe a moment of silence beginning at 8:46 a.m. Eastern Daylight Time to honor the innocent victims who perished as a result of the terrorist attacks of September 11, 2001.

IN WITNESS WHEREOF, I have hereunto set my hand this tenth day of September, in the year of our Lord two thousand twelve, and of the Independence of the United States of America the two hundred and thirty-seventh.

[FR Doc. 2012-22799

Filed 9-12-12; 11:15 am]

Billing code 3295-F2-P